DEPARTMENT OF VETERANS AFFAIRS

Joint Biomedical Laboratory Research and Development and Clinical Science Research and Development Services Scientific Merit Review Board; Notice of Meeting—Amendment

The Department of Veterans Affairs gives notice under the Public Law 92-463 (Federal Advisory Committee Act) that the teleconference meeting for the Cellular & Molecular Medicine subcommittee of the Joint Biomedical Laboratory Research and Development and Clinical Science Research and Development Services Scientific Merit Review Board has been changed from May 13, 2009, to May 26, 2009 at VA Central Office, 1722 Eye Street, NW., Washington, DC.

Those who plan to attend or would like to obtain a copy of minutes of the subcommittee meeting and roster of the members of the subcommittee should contact LeRoy G. Frey, PhD, Chief, Program Review (121F), Department of Veterans Affairs, 810 Vermont Avenue, NW., Washington, DC 20420 at (202) 461-1664.

Dated: April 23, 2009.
By Direction of the Secretary.
E. Philip Riggin,
Committee Management Officer.

[FR Doc. E9-10298 Filed 5-4-09; 8:45 am]

BILLING CODE 8320-01-P